FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The Following transactions were granted early termination of the waiting period provided by law and the premerger notification rules. The grants were made by the Federal Trade Commission and the Assistant Attorney General for the Antitrust Division of the Department of Justice. Neither agency intends to take any action with respect to these proposed acquisitions during the applicable waiting period.

Transactions Granted Early Termination—04/17/2007
Trans No. | Acquiring | Acquired | Entities
TRANSACTIONS GRANTED EARLY TERMINATION—04/17/2007
20071039 | The Coca-Cola Company | Nestle S.A | Nestle USA, Inc.
20071040 | Fursa Alternative Strategies LLC | ASM International N.V | ASM International N.V.
20071067 | Huntington Bancshares Incorporated | Sky Financial Group, Inc | Sky Financial Group, Inc.
20071068 | Citadel Broadcasting Corporation | ABC Radio Holdings, Inc., c/o The Walt Disney Company | ABC Radio Holdings, Inc., c/o The Walt Disney Company.
20071071 | KarstadtQuelle AG | MyTravel Group plc | MyTravel Group plc.
20071073 | CDRSVM Topco, Inc | The ServiceMaster Company | The ServiceMaster Company.
20071074 | Bank of Montreal | World Class Strategy I, L.P | World Class Strategy I, L.P.
20071077 | Court Square Capital Partners II, L.P | Newmarket International, Inc | Newmarket International, Inc.
20071079 | Blackstone Capital Partners V USS L.P | William J. Nicholson Agreement of Trust Dated 12/30/1076 | RGIS Holdings, LLC.
20071080 | PXRE Group Ltd | Argonaut Group, Inc | Argonaut Group, Inc.
20071081 | EQT V (UK No. 1) LP | Dako A/S | Dako Denmark A/S.
20071082 | Hellerman & Friedman Captial Partners VI, L.P | Kronos Incorporated | Kronos Incorporated.
20071084 | Cinram International Income Fund | Ditan Corporation | Ditan Corporation.
20071086 | Koninklijke Philips Electronics N.V | Jeffrey L. Grady | Netalog, Inc.
20071095 | Deutsche Bank AG | Hayes Lemmerz International, Inc | Hayes Lemmerz International, Inc.
20071096 | James A.C. Kennedy | T. Rowe Price Associates, Inc | T. Rowe Price Associates, Inc.
20071100 | Silver Point Capital Offshore Fund, Ltd | Hayes Lemmerz International, Inc | Hayes Lemmerz International, Inc.
20071104 | Silver Point Capital Fund, L.P | Hayes Lemmerz International, Inc | Hayes Lemmerz International, Inc.
TRANSACTIONS GRANTED EARLY TERMINATION—04/18/2007
20071094 | Ad.Venture Partners, Inc | 180 Connect Inc | 180 Connect Inc.
TRANSACTIONS GRANTED EARLY TERMINATION—04/19/2007
20071043 | Kenwood Corporation | Milton Zeutschel | Zetron Holdings, Inc.
20071047 | Dennis Mehiel | Longview Fibre Company | Longview Fibre Paper and Packaging, Inc.
TRANSACTIONS GRANTED EARLY TERMINATION—04/20/2007
20071078 | Avery Dennison Corporation | Paxar Corporation | Paxar Corporation.
20071087 | CHS Inc | M&M Cooperative, Inc | M&M Cooperative, Inc.
20071106 | Comcast Corporation | Fandango, Inc | Fandango, Inc.
20071110 | Copano Energy, L.L.C | Taos Gathering, L.P | Cimmarron Gathering, L.P.
|  |  | Cimmarron Gathering, L.P.
|  |  | HEP Oil Company Ltd.
20071111 | Copano Energy, L.L.C | HEP Oil Company, Ltd | Cimmarron Gathering, LP.
20071116 | Dr. Phillip Frost | Continucare Corporation | Continucare Corporation.
20071117 | VSS-AHC Holdings LLC | DLJ Merchant Banking Partners III, L.P | Advanstar Holdings Corp.
20071121 | ESP Energias de Portugal, S.A | The Goldman Sachs Group, Inc | Horizon Wind Energy Company LLC.
|  |  | Horizon Wind Energy LLC.
20071123 | Farmers Insurance Exchange | Zurich Financial Services | Bristol West Holdings, Inc.
20071126 | HOLD CyC | Atradius, N.V | Atradius, N.V.
20071127 | Sam Investment Trust | Tribune Company | Tribune Company.
20071128 | GGC Investments II (BVI), L.P | Workbrain Corporation | Workbrain Corporation.
20071133 | George J. Pedersen, c/o ManTech International Corporation | Mohindar S. Sandhu | SRS Technologies, Inc.
20071136 | AT&T Inc | Council Tree Alaska Native Wireless, L.L.C | Alaska Native Wireless, L.L.C.
TRANSACTIONS GRANTED EARLY TERMINATION—04/23/2007
20071064 | Ampac Packaging, LLC | Mohawk Northern Plastics, Inc | Mohawk Northern Plastics, Inc.
20071070 | Silver Lake Partners II, L.P | J.P. Morgan Chase & Co | Westcom Holding Corp.
20071076 | BG Group plc | Silver Point Capital Offshore Fund, Ltd | Silver Ship Offshore II, Inc.
|  |  | Silver Ship Offshore I, Inc.
20071124 | Nippon Oil Corporation | Anadarko Petroleum Corporation | Anadarko Petroleum Corporation.
20071125 | Mitsubishi Corporation | Anadarko Petroleum Corporation | Anadarko Petroleum Corporation.
TRANSACTIONS GRANTED EARLY TERMINATION—04/25/2007
20071090 | Schering-Plough Corporation | AVEO Pharmaceuticals, Inc | AVEO Pharmaceuticals, Inc.
20071130 | TPG Partners V, L.P | HealthSouth Corporation | Surgery Holdings, LLC.
20071132 | Audax Private Equity Fund II, L.P | UTEX Holding, Inc | UTEX Holding, Inc.
TRANSACTIONS GRANTED EARLY TERMINATION—04/27/2007
20071075 | West Corporation | Douglas R. and Elaine M. Wilwerding, husband and wife | Omnium Worldwide, Inc.
20071088 | Iron Mountain Incorporated | Housatonic Equity Investors, L.P | ArchivesOne, Inc.
20071089 | Iron Mountain Incorporated | Adam J. Wasserstein | ArchivesOne, Inc.
20071113 | Bruce M. Rose | New Century Financial Corporation | New Century Mortgage Corporation.
20071143 | LGB Cap Rock LLC | SEMCO Energy, Inc | SEMCO Energy, Inc.
20071146 | Range Resources Corporation | Nora Gathering, LLC | Nora Gathering, LLC.
20071147 | The AES Corporation | General Electric Company | Lake Benton Power Partners LLC.
20071148 | Caxton Global Investments Limited | KCP Income Fund | KIK Operating Trust.
20071152 | AXIS Capital Holdings Limited | Aon Corporation | MPI Insurance Agency, Inc.
20071158 | New Omaha Holdings, L.P | First Data Corporation | First Data Corporation.
20071159 | Software AG | webMethods, Inc | webMethods, Inc.
20071161 | Filtrona plc | Duraco, Inc | Duraco, Inc.
20071166 | Olympus Growth Fund IV, L.P | Brinker International, Inc | Brinker Connecticut Corporation.
|  |  | Brinker Massachusetts Corporation.
|  |  | Brinker New England II, LLC.
|  |  | Brinker New England I, LLC.
|  |  | Brinker North Carolina, Inc.
|  |  | Brinker Restaurant Corporation.
|  |  | Brinker Rhode Island, Inc.
|  |  | Brinker South Carolina, Inc.
|  |  | Brinker Vermont, Inc.
|  |  | Brinker Virginia, Inc.
TRANSACTIONS GRANTED EARLY TERMINATION—04/30/2007
20071105 | Bayer AG | Novartis AG | Novartis Vaccines and Diagnostics, Inc.
20071134 | Greenwood Tree Farm Fund, LP | Potlatch Corporation | Potlatch Forest Holdings, Inc.
|  |  | Potlatch Forest Products Corporation.
20071164 | OCM Principal Opportunities Fund IV AIF (Delaware), L.P | Clear Channel Communications, Inc | AMFM Radio Licenses, LLC. Capstar Radio Operating Company. Capstar TX Limited Partnership. CCB Texas Licenses, L.P. Citicasters Co. Citicasters Licenses LP. Clear Channel Broadcasting, Inc. Clear Channel Identity, LP.
20071165 | Bear Stearns Merchant Banking Partners | Universal Hospital Services, Inc | Universal Hospital Services, Inc.
20071168 | Roark-Carvel LLC | H. Martin Sprock, III | Moe's Southwest Grill, LLC.
TRANSACTIONS GRANTED EARLY TERMINATION—05/01/2007
20071169 | Thoma Cressey Fund VIII, L.P | SvoCO, L.P | Midwest Dental Holding Company, Inc.
TRANSACTIONS GRANTED EARLY TERMINATION—05/02/2007
20070507 | Saskatchewan Wheat Pool, Inc | United Grain Growers Limited | United Grain Growers Limted.
20071093 | NuVox, Inc | M/C Venture Partners V, L.P | Florida Digital Network, Inc.
20071153 | Community Education Centers, Inc | CiviGenics, Inc | CiviGenics, Inc.
TRANSACTIONS GRANTED EARLY TERMINATION—05/03/2007
20071162 | First Data Corporation | Warburg, Pincus Equity Partners, L.P | FundsXpress, Inc.
20071167 | Apollo Investment Fund VI, L.P | Xstrata plc | Noranda Aluminum Holding Inc.
TRANSACTIONS GRANTED EARLY TERMINATION—05/04/2007
20070036 | Smithfield Foods, Inc | Premium Standard Farms, Inc | Premium Standard Farms, Inc.
20070577 | R.R. Donnelley & Sons Company | Visant Holding Corp | Von Hoffmann Holdings, Inc.
20071196 | L'Oreal S.A | TSG4 L.P | PR Holding Corp.
TRANSACTIONS GRANTED EARLY TERMINATION—05/07/2007
20070037 | ContiGroup Companies, Inc | Smithfield Foods, Inc | Smithfield Foods, Inc.
20071015 | Quanta Services, Inc | InfraSource Services, Inc | InfraSource Services, Inc
20071172 | Arthur L. Allen | Mobius Management Systems, Inc | Mobius Management Systems, Inc.
20071174 | Newco | Hub International Limited | Hub International Limited.
20071177 | Babcock & Brown Limited | New Energy Capital Corporation | Iroquois Bio-Energy Company, LLC.
20071180 | New Wave Group AB | Cutter & Buck Inc | Cutter & Buck Inc.
20071182 | Fenway Partners Capital Fund III, L.P | Cesar Scolari | Staffworks Dedicated Logistics Services, LLC.
|  |  | Staffworks, Inc.
20071184 | Joseph C Grendys | Don Tyson | Tyson Foods, Inc.
20071185 | STR Holdings, Inc | Whitney STR Holdings, LLC | Specialized Technology Resources, Inc.
20071190 | Boulder Specialty Brands, Inc | TSG4 L.P | GFA Holdings, Inc.
20071191 | Hellman & Friedman Capital Partners VI, L.P | Catalina Marketing Corporation | Catalina Marketing Corporation.
20071194 | Great Hill Equity Partners III, LP | Smart Business Advisory and Consulting LLC | Smart Business Advisory and Consulting, LLC.
20071195 | OZ Overseas Fund, Ltd | Boulder Specialty Brands, Inc | Boulder Specialty Brands, Inc.
20071200 | GTCR Fund IX/A, L.P | H.I.G. Capital Partners III, L.P | APS Healthcare, Inc.
|  |  | Service Net Holdings, Inc.
20071205 | Olam International Limited | Universal Blanchers, L.L.C | Universal Blanchers, L.L.C.
20071206 | Silver Oak Services Partners, L.P | CGW Southeast Partners III, L.P | Convergent Resources, Inc.
TRANSACTIONS GRANTED EARLY TERMINATION—05/09/2007
20071151 | Agilent Technologies, Inc | Stratagene Corporation | Stratagene Corporation.
20071181 | BGH GP Holdings, LLC | Carlyle/Riverstone BPL Investment Partnership II, L.P | Buckeye GP Holdings L.P.
TRANSACTIONS GRANTED EARLY TERMINATION—05/10/2007
20071108 | United States Steel Corporation | Lone Star Technologies, Inc | Lone Star Technologies, Inc.
20071173 | Curtiss-Wright Corporation | John Brennan | Valve Systems and Controls, LP.
20071176 | Citadel Wellington LLC | Lowell W. Paxson | ION Media Networks, Inc.
20071178 | CVC European Equity Partners III, L.P | Greenwich Street Capital Partners, L.P | Day International Group, Inc.
20071183 | Klockner & Co. AG | Primary Steel, LLC | Primary Steel, LLC.
20071187 | Deutsche Bank AG | M. Brian Maher | Maher Prince Rupert Holdings Corp.
|  |  | Maher Terminals USA, LLC.
20071188 | Deutsche Bank AG | Basil Maher | Maher Prince Rupert Holdings Corp.
|  |  | Maher Terminals USA, LLC.
20071193 | Macquarie Infrastructure Company Trust | Allied Capital Corporation | Mercury Air Centers Inc.
20071208 | ITC Holdings Corp | Alliant Energy Corporation | Interstate Power and Light Company.
20071219 | Bruno Bolfo | Winner Steel, Inc | Winner Steel, Inc.
TRANSACTIONS GRANTED EARLY TERMINATION—05/11/2007
20071129 | Lightyear Fund II, L.P | Odyssey Investment Partners Fund, LP | Neff Corp.
20071139 | Carlyle Partners IV, L.P | The Goodyear Tire & Rubber Company | Belt Concepts of America, Inc.
|  |  | Cosmoflex, Inc.
|  |  | Goodyear Engineered Products International, Inc.
|  |  | Specialty Fabrics and Converting, Inc.
20071170 | O. Bruton Smith | David L. Peterson | Calabasas Motorcars, Inc.
20071198 | UnitedHealth Group Incorporated | Quintiles Transnational Corp | The Lewin Group, Inc.
20071210 | Blackstone Capital Partners (Cayman) IV L.P | Kimble Chase Life Science and Research Products, LLC | Kimble Chase Life Science and Research Products, LLC.
20071214 | Challenger Infrastructure Fund | JP Morgan Chase & Co | LBC Holdings LLC.
20071215 | Citigroup Inc | Old Lane Holdings, LP | Old Lane Partners GP, LLC. Old Lane Partners LP.
20071226 | Liberty Media Corporation | Gaylord Entertainment Company | ResortQuest Real Estate of Hawaii, Inc.
|  |  | RQI Holdings, Ltd.
20071241 | J.C. Flowers II L.P | Direct Response Corporation | Direct Response Corporation.
20071247 | Bank of America Corporation | Seattle Financial Group, Inc | Seattle Mortgage Company.
|  |  | Seattle Savings Bank.
20071248 | Information Services Group, Inc | MCP-TPI Holdings, LLC | c/o Technology Partners International, Inc.
|  |  | TPI Advisory Services Americas, Inc.
20071250 | SCT Chassis Holding LLC | Interpool, Inc | Interpool, Inc.
20071259 | A/S Dampskibsselskabet TORM | OMI Corporation | OMI Corporation.
20071260 | Teekay Shipping Corporation | OMI Corporation | OMI Corporation.
20071264 | Audax Private Equity Fund II, L.P | Thermon Industries, Inc | Thermon Industries, Inc.
20071275 | TUI AG | First Choice Holidays PLC | First Choice Holidays PLC.
TRANSACTIONS GRANTED EARLY TERMINATION—05/14/2007
20070898 | CheckFree Corporation | Corillian Corporation | Corillian Corporation.
20071225 | Barry Diller | Gaylord Entertainment Company | ResortQuest Real Estate of Hawaii, Inc.
20071230 | Carl C. Icahn | WCI Communities, Inc | WCI Communities, Inc.
20071233 | Sun Capital Partners IV, L.P | Wellspring Capital Partners III, L.P | EWGS Partners.
|  |  | WS Golf Acquisition, Inc.
20071234 | Sun Capital Partners V, L.P | Wellspring Capital Partners III, L.P | EWGS Partners.
|  |  | WS Golf Acquisition, Inc.
20071238 | Vinci S.A | HIGB | Soletanche S.A.
20071239 | Aquilex Holdings LLC | OCM Principal Opportunities Fund III, L.P | HydroChem Holding, Inc.
20071246 | MYEH Corporation | Myers Industries, Inc | Myers Industries, Inc.
20071249 | Staples, Inc | James H. Possehl | American Identity, Inc.
|  |  | IN Designs Global, Inc.
|  |  | Legend, Inc.
20071256 | TreeHouse Foods, Inc | Christopher “Kit” Goldsbury | c/o Silver Brands Partners II, L.P.
|  |  | VDW Acquisition, Ltd.
TRANSACTIONS GRANTED EARLY TERMINATION—05/15/2007
20071258 | Walgreen Co | Beecken Petty O'Keefe & Company | Take Care Health Systems, Inc.
20071261 | DC Chemical Co., Ltd | Evergreen Solar, Inc | Evergreen Solar, Inc.
TRANSACTIONS GRANTED EARLY TERMINATION—05/16/2007
20071163 | Experian Group Limited | Hitwise, Inc | Hitwise, Inc.
20071201 | Dubai Aerospace Enterprise (DAE) Ltd | Carlyle Partners III, L.P | Standard Aero Acquisition Holdings, Inc.
20071202 | Dubai Aerospace Enterprise (DAE) Ltd | Carlyle Piedmont Domestic Partners, L.P | Piedmont/Hawthorne Holdings, Inc.
20071262 | Jubilant Organosys Ltd | Windward Capital Partners II LP | Hollister-Stier Laboratories LLC
20071263 | Highstar Harbor Holdings II, Inc | Lincolnshire Equity Fund III, L.P | Logistics Acquisition Holdings, Inc.
TRANSACTIONS GRANTED EARLY TERMINATION—05/17/2007
20070969 | James Richardson & Sons Limited | United Grain Growers Limited d/b/a Agricore Limited | United Grain Growers Limited d/b/a Agricore Limited.
TRANSACTIONS GRANTED EARLY TERMINATION—05/18/2007
20071186 | Oplink Communications, Inc | The Furukawa Electric Co., Ltd | Optical Communication Products, Inc.
20071251 | O. Bruton Smith | Dennis Assael | Assael Automotive, Inc.
20071268 | TA X, L.P | IntraLinks, Inc | IntraLinks, Inc.
20071270 | Genstar Capital Partners IV, L.P | Nautic Partners V, L.P | ConvergeOne Holdings Corp.
20071279 | Symbol Acquisition, L.L.C | Symbion, Inc | Symbion, Inc.
20071282 | BBA Aviation PLC | Topeka Aircraft, Inc | Topeka Aircraft, Inc.
20071283 | HBK Fund, L.P | Piedmont Television Holdings, LLC | Piedmont Television of Savannah LLC.
20071284 | Citigroup Inc | Accor SA | Red Roof Inns, Inc.
20071285 | Oak Hill Capital Partners II, L.P | Wells Fargo & Company | Jacobson Holding Co.
20071286 | L-1 Identity Solutions, Inc | Frank White, Jr | Advanced Concepts, Inc.
20071288 | Welsh, Carson, Anderson & Stowe X, L.P | Carlyle Partners III Hawaii, L.P | Directory Co., LLC.
20071290 | Coventry Health Care, Inc. | Mutual of Omaha Insurance Company | Mutual of Omaha Insurance Company.
20071291 | CS Luxco s.a.r.l. | Capital Safety Group Limited | Capital Safety Group Limited.
20071292 | KHI Holdings LP | Harman International Industries Incorporated | Harman International Industries Incorporated.
20071306 | Alleghany Corporation | Employers Direct Corporation | Employers Direct Corporation.
TRANSACTIONS GRANTED EARLY TERMINATION—05/21/2007
20071217 | Sciele Pharma, Inc | Alliant Pharmaceuticals, Inc | Alliant Pharmaceuticals, Inc.
20071245 | RG Tube Holdings LLC | Castle Harlan Partners IV, L.P | RGCH Holdings Corp.
20071280 | Kenneth A. Hendricks | William Davidson | Ashley Aluminum, LLC.
20071296 | Welsh, Carson, Anderson & Stowe X, L.P | GTCR Fund VII, L.P | TransFirst Holdings, Inc.
20071301 | Hellman & Friedman Capital Partners VI, L.P | J.W. Childs Equity Partners III, L.P | Sheridan Holdings, Inc.
20071305 | Battery Ventures VII, L.P. | Quovadx, Inc | Quovadx, Inc.
20071310 | Sorenson Capital Partners, LP | Mity Enterprises, Inc | Mity Enterprises, Inc.
TRANSACTIONS GRANTED EARLY TERMINATION—05/22/2007
20071295 | Visa Inc | Visa U.S.A. Inc | Visa U.S.A. Inc.
20071307 | Visa Inc. | Visa International Service Association | Visa International Service Association.
20071308 | Visa Inc | Visa Canada Association | Visa Canada Association.
20071309 | MartlinPatterson Global Opportunities Partners II L.P | World Air Holdings, Inc | World Air Holdings, Inc.
20071320 | Genesis Energy, L.P | Davison Petroleum Products, LLC. | Fuel Masters, LLC.
|  |  | TDC, LLC.
|  |  | T&T Chemical, Inc.
20071321 | Genesis Energy, L.P | Davison Transport, Inc | Davison Transport, Inc.
20071327 | Carlyle Partners III, L.P | TSS Holdings, Inc | TSS Aviation, Inc.
TRANSACTIONS GRANTED EARLY TERMINATION—05/23/2007
20071220 | The Crawford Group, Inc | Cerberus International, Ltd | Vanguard Car Rental Holdings LLC.
20071223 | Blue Point Capital Partners II, L.P | Bruce Degler | Dispatch Transportation, LLC.
20071224 | Blue Point Capital Partners II, L.P | Kim Pugmire | Dispatch Transportation, LLC.
20071271 | Manulife Financial Corporation | J-Power USA Generation, L.P | J-Power USA Generation, L.P.
20071272 | Estate of Craig H. Neilsen | Colony Investors VII, L.P | RIH Acquisitions IN, LLC.
20071276 | Sonoco Products Company | Tricor Pacific Capital Partners (Fund III) Limited Partnership | Matrix Packaging Inc.
|  |  | Tricor (Matrix) Holdings Ltd.
TRANSACTIONS GRANTED EARLY TERMINATION—05/24/2007
20061865 | Newhouse Broadcasting Corporation | Cequel Communications Holdings, LLC | Cebridge Acquisition, L.P.
20070606 | Psychiatric Solutions, Inc | Horizon Health Corporation | Horizon Health Corporation.
20071189 | Eltek ASA | Valere Power, Inc | Valere Power, Inc.
TRANSACTIONS GRANTED EARLY TERMINATION—05/25/2007
20071236 | JANA Offshore Partners, Ltd | LSI Logic Corporation | LSI Logic Corporation.
20071273 | Quadrangle (AIV) Capital Partners II LP | Hargray Communications Group, Inc | Hargray Communications Group, Inc.
20071319 | TIBCO Software Inc | Spotfire Holdings, Inc | Spotfire Holdings, Inc.
20071323 | Whitehall Street Global Real Estate Limited Partnership 2007 | Carl C. Icahn | American Casino & Entertainment Properties, LLC.
20071325 | Deutsche Borse AG | International Securities Exchange Holdings, Inc | International Securities Exchange Holdings, Inc.
20071333 | Randal J. Kirk | Halozyme Therapeutics, Inc | Halozyme Therapeutics, Inc.
20071336 | Trevor Lloyd | Quadrangle (Access) Capital Partners, L.P | Global Energy Decisions, L.L.C.
20071339 | Bunker Hill Capital, L.P | The Smith & Wollensky Restaurant Group, Inc | The Smith & Wollensky Restaurant Group, Inc.
20071340 | PRWireless LLC | ClearComm, LP | NewComm Wireless Services, Inc.
20071344 | The PNC Financial Services Group, Inc | L.E.G.L. Investments, LLC | ARCS Commercial Mortgage Co., L.P.
20071348 | MidCountry Financial Corp | William D. Sullivan | Pioneer Financial Industries, Inc.
20071349 | Madison Dearborn Capital Partners V-A, L.P | Clayton, Dubilier & Rice Fund VI Limited Partnership | CDRV Investors, Inc.
20071356 | GGC Investments II (BVI), L.P | GGC Investment Fund II, L.P | Hansen Information Technologies Holdings, Inc.
20071357 | American Capital Strategies, Ltd | SMG | SMG.
20071361 | Water Street Healthcare Partners, L.P | Stryker Corporation | Physiotheraphy Associates, Inc.
TRANSACTIONS GRANTED EARLY TERMINATION—05/29/2007
20071211 | Highmark Inc | Independence Blue Cross | Independence Blue Cross.
20071213 | Independence Blue Cross | Highmark, Inc | Highmark, Inc.
20071218 | Hercules Offshore, Inc | TODCO | TODCO.
20071278 | Michael E. Heisley, Sr | Jordan Reese, III | Bo-Mac Contractors, Ltd.
20071303 | AstraZeneca plc | Medimmune, Inc | Medimmune, Inc.
20071331 | Verizon Communications Inc | JPMorgan Chase & Co | Cybertrust Holdings, Inc.
20071345 | Natural Gas Partners VIII, L.P | MDU Resources Group, Inc | Centennial Power, Inc.
|  |  | Colorado Energy Management, LLC.
20071358 | Terra Firma Capital Partners II, LP-C | Pegasus Aviation Finance Company | Pegasus Aviation Finance Company.
20071359 | Terra Firma Capital Partners III, L.P | Terra Firma Capital Partners II, LP-C | Carmel Capital S.A.R.L.
TRANSACTIONS GRANTED EARLY TERMINATION—05/30/2007
20071299 | IASIS Investment LLC | Alliance Hospital, Ltd | Alliance Hospital, Ltd.
20071372 | Express Investment Corp | Limited Brands, Inc | Express Holding, LLC.
TRANSACTIONS GRANTED EARLY TERMINATION—05/31/2007
20071300 | SAP AG | OutlookSoft Corporation | OutlookSoft Corporation.
20071322 | Linx Fund II, L.P | McBride Electric, Inc | McBride Electric, Inc.
20071330 | Doughty Hanson & Co V | Norit International B.V | Norit Americas Inc.
|  |  | Sudmo North America, Inc.
20071338 | Herbert C. Chambers | Foreign Motors West, Inc. Employee Stock Ownership Plan | Bentley of Boston, LLC.
|  |  | Foreign Motors West, Inc.
|  |  | Landrover MetroWest, LLC.
20071351 | Barry Diller | Thomas H. Lee Equity Fund V, L.P | Front Line Management Group, Inc.
20071352 | Liberty Media Corporation | Thomas H. Lee Equity Fund V, L.P | Front Line Management Group, Inc.
TRANSACTIONS GRANTED EARLY TERMINATION—06/01/2007
20061806 | Rite Aid Corporation | Mr. Jean Coutu | The Jean Coutu Group (PJC) USA, Inc.
20061807 | Mr. Jean Coutu | Rite Aid Corporation | Rite Aid Corporation.
20071293 | Novartis AG | Antisoma PLC | Antisoma Research Limited.
TRANSACTIONS GRANTED EARLY TERMINATION—06/04/2007
20071122 | Travelex Holdings Limited | Welsh, Carson, Anderson & Stowe IX, L.P | RII Holdings, Inc., c/o Ruesch International Inc.
20071155 | The Bank of New York Company, Inc | Mellon Financial Corporation | Mellon Financial Corporation.
20071156 | Mellon Financial Corporation | The Bank of New York Company, Inc | The Bank of New York Company, Inc.
TRANSACTIONS GRANTED EARLY TERMINATION—06/05/2007
20071360 | Motorola, Inc | Terayon Communication Systems, Inc | Terayon Communication Systems, Inc.
20071365 | UBS AG | AIG Highstar Generation LLC | AIG Highstar Generation LLC.
20071368 | Imation Corp | Barry Smith | Hopper Radio of Florida, Inc.
|  |  | Memcorp, Asia Limited.
|  |  | Memcorp, Inc.
20071369 | ASP IV Alternative Investments, L.P | Clear Channel Communications, Inc | AM/FM Radio Licenses, LLC.
|  |  | Capstar Radio Operating Company.
|  |  | Capstar TX Limited Partnership.
|  |  | CC Licenses, LLC.
|  |  | Citicasters Co.
|  |  | Citicasters Licenses LP.
|  |  | Clear Channel Broadcasting Inc.
|  |  | Clear Channel Broadcasting Licenses, Inc.
|  |  | Jacor Broadcasting Corp.
20071378 | Torquest Partners Fund II, L.P | 3M Company | 3M Company.
|  |  | 3M Innovative Properties Co.
20071380 | Babcock & Brown Limited | Celanese Corporation | Celanese Corporation.
20071383 | Lehman Brothers Holdings Inc | Eagle Energy Partners I, L.P | Eagle Energy Partners I, L.P.
20071385 | Paul G. Desmarais | HARO Financial Corporation | Crown Life Insurance Company.
20071387 | General Electric Company | Shady Hills Power Holdings, LLC | Shady Hills Power Holdings, LLC.
20071392 | Exar Corporation | Sipex Corporation | Sipex Corporation.
20071396 | TCV VI, L.P | Thomas A. Smith | Seismic Micro-Technology, Inc.
20071400 | Ingram Micro Inc | David B. Lorsch | DBL Distributing, Inc.
20071404 | Jeffrey D. Zients | Pediatric Services of America, Inc | Pediatric Services of America, Inc.
20071407 | WGN Acquisition Corp | National Grid plc | National Grid Wireless LLC.
20071413 | Aetna Inc | Schaller Anderson, Incorporated | Schaller Anderson, Incorporated.
20071416 | Spectrum Equity Investors V, L.P | Fuji Television Network, Inc | T/Q Music, Inc.
|  |  | Windswept Holdings, LLC.
20071423 | Fetcher Building Limited | Formica Bermuda Holdings, Ltd | Formica Holding Corp.
|  |  | Formica Luxembourg Holding S.ar.I.
|  |  | Laminates Acquisition Co.
20071428 | Triarc Companies, Inc | Deerfield Triarc Capital Corp | Deerfield Triarc Capital Corp.
20071429 | Deerfield Triarc Capital Corp | Triarc Companies, Inc | Deerfield & Company LLC.
TRANSACTIONS GRANTED EARLY TERMINATION—06/06/2007
20070789 | Walter Wang | PW Eagle, Inc | PW Eagle, Inc.
20071329 | Lonestar Holdings Corp | Asurion Corporation | Asurion Corporation.
20071409 | University of Miami | Hercules Holdings II, LLC | Cedarcare, Inc.
|  |  | Cedars Gastroenterologists, LLC.
|  |  | Cedars Healthcare Group, Ltd.
|  |  | Cedars Neurosurgery, LLC.
20071417 | Pfizer Inc | PTC Therapeutics, Inc | PTC Therapeutics, Inc.
20071418 | KKR Asian Fund, L.P | MMI Holdings Limited | MMI Holdings Limited.
20071419 | Atlas America, Inc | DTE Energy Company | DTE Gas & Oil Company.
TRANSACTIONS GRANTED EARLY TERMINATION—06/07/2007
20071314 | Chicago Growth Partners, L.P | Industrial Growth Partners II, L.P | Jonathan Engineered Solutions Corp.
|  |  | Jonathan Manufacturing Corporation.
20071370 | Boston Scientific Corporation | Celsion Corporation | Celsion Corporation.
20071411 | Harris Corporation | Cerberus Partners, L.P | Multimax Incorporated.

FOR FURTHER INFORMATION CONTACT: Sandra M. Peay, Contact Representative or Renee Hallman, Contact Representative Federal Trade Commission Premerger Notification Office, Bureau of Competition, Room H-303, Washington, DC 20580, (202) 326-3100.

By direction of the Commission.
Donald S. Clark
Secretary.

[FR Doc. 07-3100 Filed 06-22-07; 8:45 am]

BILLING CODE 6750-01-M